DEPARTMENT OF AGRICULTURE

Forest Service

Lake Tahoe Basin Federal Advisory Committee

AGENCY: Forest Service, USDA.

ACTION: Notice of meeting.

SUMMARY: The Lake Tahoe Basin Federal Advisory Committee will hold a meeting on March 27, 2001 at North Tahoe Conference, 8318 N. Lake Blvd., Kings Beach, CA. This Committee, established by the Secretary of Agriculture on December 15, 1998, (64 FR 2876) is chartered to provide advice to the Secretary on implementing the terms of the Federal Interagency Partnership on the Lake Tahoe Region and other matters raised by the Secretary.

DATES: The meeting will be held March 27, 2001, beginning at 9:00 a.m. and ending at 4:30 p.m.

ADDRESSES: The meeting will be held at North Tahoe Conference, 8318 N. Lake Blvd., Kings Beach, CA

FOR FURTHER INFORMATION CONTACT: Maribeth Gustafson or Jeannie Stafford, Lake Tahoe Basin Management Unit, Forest Service, 870 Emerald Bay Road Suite 1, South Lake Tahoe, CA 96150, (530) 573-2642.

SUPPLEMENTARY INFORMATION: The committee will meet jointly with the Lake Tahoe Basin Executives Committees. Items to be covered on the agenda include: (1) Review and Approval of Urban Lot Subcommittee Report; (2) Review of the Federal Advisory Committee Draft on Federal Actions at Lake Tahoe; (3) public comment; (4) Review of the Consensus Process; (5) Status Report on the Environmental Improvement Program; and (6) Review of Proposed Letters on Air Quality and Co-location of North Tahoe Fire Department with the Forest Service. All Lake Tahoe Basin Federal Advisory Committee meetings are open to the public. Interested citizens are encouraged to attend. Issues may be brought to the attention of the Committee during the open public comment period at the meeting or by filing written statements with the secretary for the Committee before or after the meeting. Please refer any written comments to the Lake Tahoe Basin Management Unit at the contact address stated above.

Dated: March 5, 2001.
Maribeth Gustafson,
Forest Supervisor.

[FR Doc. 01-6124 Filed 3-12-01; 8:45 am]

BILLING CODE 3410-11-M